DEPARTMENT OF AGRICULTURE

U.S. Codex Office

Codex Alimentarius Commission: Meeting of the Codex Committee on Spices and Culinary Herbs

AGENCY: U.S. Codex Office, USDA.

ACTION: Notice of public meeting and request for comments.

SUMMARY: The U.S Codex Office is sponsoring a public meeting on December 5, 2018. The objective of the public meeting is to provide information and receive public comments on agenda items and draft United States (U.S.) positions to be discussed at the 4th Session of the Codex Committee on Spices and Culinary Herbs (CCSCH) of the Codex Alimentarius Commission, in Thiruvananthapuram, India, January 21-25, 2019. The U.S. Manager for Codex Alimentarius and the Under Secretary, Office of Trade and Foreign Agricultural Affairs, recognize the importance of providing interested parties the opportunity to obtain background information on the 4th Session of the CCSCH and to address items on the agenda.

DATES: The public meeting is scheduled for Wednesday, December 5, 2018 from 2 p.m. to 4 p.m.

ADDRESSES: The public meeting will take place at the United States Department of Agriculture (USDA), Jamie L. Whitten Building, 1400 Independence Avenue SW, Room 107-A, Washington, DC 20250. Documents related to the 4th Session of the CCSCH will be accessible via the internet at the following address: http://www.codexalimentarius.org/meetings-reports/en.

Dorian LaFond, U.S. Delegate to the 4th Session of the CCSCH invites U.S. interested parties to submit their comments electronically to the following email address: Dorian.Lafond@usda.gov.

Call-In-Number: If you wish to participate in the public meeting for the 4th Session of the CCSCH by conference call, please use the call-in-number: 1-888-844-9904.

The participant code will be posted on the following web page: http://www.usda.gov/codex.

Registration: Attendees may register to attend the public meeting by emailing Marie.Maratos@osec.usda.gov by November 20th, 2018. Early registration is encouraged because it will expedite entry into the building. The meeting will take place in a Federal building. Attendees should bring photo identification and plan for adequate time to pass through the security screening systems. Attendees who are not able to attend the meeting in person, but who wish to participate, may do so by phone, as discussed above.

For Further Information about the 4th Session of the CCSCH Contact: Dorian LaFond, International Standards Coordinator, Fruit and Vegetables Program, Specialty Crop Inspection Division, Agricultural Marketing Service, 1400 Independence Avenue SW, Mail Stop 0247, Washington DC 20250-0247. Phone: +1 (202) 690-4944. Email: Dorian.Lafond@ams.usda.gov.

For Further Information about the Public Meeting Contact: Marie Maratos, U.S. Codex Office, 1400 Independence Avenue SW, Room 4861, South Agriculture Building, Washington, DC 20250. Phone: (202) 690-4795, Fax: (202) 720-3157, Email: Marie.Maratos@osec.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The CCSCH is responsible for elaborating worldwide standards for spices and culinary herbs in their dried and dehydrated state in whole, ground, and cracked or crushed form and consulting, as necessary, with other international organizations in the standards development process to avoid duplication.

The CCSCH is hosted by India. The U.S. attends CCSCH as a member country of Codex.

Issues To Be Discussed at the Public Meeting

The following items on the Agenda for the 4th Session of the CCSCH will be discussed during the public meeting:

• Matters referred by the Codex Alimentarius Commission and its subsidiary bodies

• Oregano—Proposed Draft Standard for Dried Oregano

• Dried Roots, Rhizomes and Bulbs—Proposed draft Standard for Dried Dehydrated Ginger

• Proposed Draft Standard for Dried Garlic

• Dried Fruits and Berries—Proposed Draft Standard for Dried Chilli Peppers and Paprika

• Dried Herbs—Proposed Draft Standard for Dried Basil

• Dried Seeds—Proposed Draft Standard for Dried Nutmeg

• Dried Floral Parts—Proposed Draft Standard for Dried Cloves

• Proposed Draft Standard for Dried Saffron

• Proposals for new work

• Other business

• Date and place of the next session

Public Meeting

At the December 6, 2018, public meeting, draft U.S. positions on the agenda items will be described and discussed, and attendees will have the opportunity to pose questions and offer comments. Written comments may be offered at the meeting or sent to Dorian LaFond, U.S. Delegate for the 4th Session of the CCSCH (see ADDRESSES). Written comments should state that they relate to activities of the 4th Session of the CCSCH.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington DC on October 16, 2018.
Mary Lowe,
U.S. Manager for Codex Alimentarius.

[FR Doc. 2018-22873 Filed 10-19-18; 8:45 am]

BILLING CODE P